FEDERAL RESERVE SYSTEM

Change in Bank Control Notices; Formations of, Acquisitions by, and Mergers of Bank Holding Companies; Correction

This notice corrects a notice (FR Doc. 2012-26297) published on page 65190 of the issue for Thursday, October 25, 2012.

Under the Federal Reserve Bank of Dallas heading, the entry for Bryon Dirk Bagenstos, Cherokee, Oklahoma; Greggory Earl Glass, Kevin Russell Murrow, Mike Lee Mackey, all of Alva, Oklahoma; and Warren Dean Hughes, Carmen, Oklahoma, is revised to read as follows:

A. Federal Reserve Bank of Kansas City (Dennis Denney, Assistant Vice President) 1 Memorial Drive, Kansas City, Missouri 64198-0001:

1. Byron Dirk Bagenstos, Cherokee, Oklahoma; Greggory Earl Glass, Kevin Russell Murrow, Mike Lee Mackey, all of Alva, Oklahoma; and Warren Dean Hughes, Carmen, Oklahoma; as a group acting in concert to acquire voting shares of S G Bancshares, Inc., and thereby indirectly acquire voting shares of State Guaranty Bank, both in Okeene, Oklahoma.

Comments on this application must be received by November 9, 2012.

Board of Governors of the Federal Reserve System, October 25, 2012.
Robert deV. Frierson,
Secretary of the Board.

[FR Doc. 2012-26621 Filed 10-29-12; 8:45 am]

BILLING CODE 6210-01-P